DEPARTMENT OF THE TREASURY

Submission for OMB Review; Comment Request

January 23, 2013.

The Department of the Treasury will submit the following information collection request to the Office of Management and Budget (OMB) for review and clearance in accordance with the Paperwork Reduction Act of 1995, Public Law 104-13, on or after the date of publication of this notice.

DATES: Comments should be received on or before February 27, 2013 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request maybe found at www.reginfo.gov.

Alcohol and Tobacco Tax and Trade Bureau (TTB)

OMB Number: 1513-0009.

Type of Review: Revision of a currently approved collection.

Title: Application to Establish and Operate Wine Premises, and Wine Bond.

Form: TTB F 5120.25; 5120.36.

Abstract: TTB F 5120.25, Application to Establish and Operate Wine Premises, is the form used to establish the qualifications of an applicant applying to establish and operate wine premises. The applicant certifies his/her intention to produce and/or store a specified amount of wine and take certain precautions to protect it from unauthorized use. TTB F 5120.36, Wine Bond, is the form used by the proprietor and a surety company as a contract to ensure the payment of the wine excise tax.

Affected Public: Private Sector: Businesses or other for-profits.

Estimated Total Burden Hours: 1,775.

OMB Number: 1513-0011.

Type of Review: Revision of a currently approved collection.

Title: Formula and/or Process for Article Made With Specially Denatured Spirits.

Form: TTB F 5120.19.

Abstract: TTB F 5150.19 is completed by persons who use specially denatured spirits in the manufacture of certain articles. TTB uses the information provided on the form to ensure the manufacturing formulas and processes conform to the requirement of 26 U.S.C. 5273.

Affected Public: Private Sector: Businesses or other for-profits.

Estimated Total Burden Hours: 1,194.

OMB Number: 1513-0012.

Type of Review: Extension without change of a currently approved collection.

Title: User's Report of Denatured Spirits.

Form: TTB F 5150.18.

Abstract: The information on TTB F 5150.18 is used to pinpoint unusual activities in the use of specially denatured spirits. The form shows a summary of activities at permit premises. TTB examines and verifies certain entries on these reports to identify unusual activities, errors, and omissions.

Affected Public: Private Sector: Businesses or other for-profits.

Estimated Total Burden Hours: 1,133.

OMB Number: 1513-0014.

Type of Review: Revision of a currently approved collection.

Title: Power of Attorney.

Form: TTB F 5000.8.

Abstract: TTB F 5000.8 delegates the authority to a specific individual to sign documents on behalf of an applicant or principal. Title 26 U.S.C. 6061 authorizes that individuals signing returns, statements, or other documents required to be filed by industry members under the provisions of the IRC or the FAA Act, are to have that authority on file with TTB.

Affected Public: Private Sector: Businesses or other for-profits.

Estimated Total Burden Hours: 3,250.

OMB Number: 1513-0024.

Type of Review: Revision of a currently approved collection.

Title: Report—Export Warehouse Proprietor.

Form: TTB F 5220.4.

Abstract: Proprietors account for taxable articles on this report. TTB uses this information to ensure that Federal laws and regulations have been complied with and to protect against diversion.

Affected Public: Private Sector: Businesses or other for-profits.

Estimated Total Burden Hours: 1,920.

OMB Number: 1513-0029.

Type of Review: Extension without change of a currently approved collection.

Title: Certification of Tax Determination—Wine.

Form: TTB F 5120.20.

Abstract: TTB F 5120.20 supports the exporter's claim for drawback, as the producing winery verifies that the wine being exported was in fact tax paid.

Affected Public: Private Sector: Businesses or other for-profits.

Estimated Total Burden Hours: 500.

OMB Number: 1513-0038.

Type of Review: Revision of a currently approved collection.

Title: Application to Receive Spirits and/or Denatured Spirits by Transfer in Bond.

Form: TTB F 5100.16.

Abstract: TTB F 5100.16 is completed by distilled spirits plant proprietors who wish to receive spirits in bond from other distilled spirits plants. TTB uses the information to determine if the applicant has sufficient bond coverage for the additional tax liability assumed when spirits are transferred in bond.

Affected Public: Private Sector: Businesses or other for-profits.

Estimated Total Burden Hours: 228.

OMB Number: 1513-0039.

Type of Review: Extension without change of a currently approved collection.

Title: Distilled Spirits Plants Warehousing Records (TTB REC 5110/02) and Monthly Report of Storage Operations.

Form: TTB 5110.11.

Abstract: The information collected is used to account for proprietor's tax liability, adequacy of bond coverage, and protection of the revenue. It also provides data to analyze trends, audit plant operations, monitor industry activities and compliance to provide for efficient allocation of field personnel, plus provide for economic analysis.

Affected Public: Private Sector: Businesses or other for-profits.

Estimated Total Burden Hours: 5,520.

OMB Number: 1513-0045.

Type of Review: Revision of a currently approved collection.

Title: Distilled Spirits Plants—Excise Taxes (TTB REC 5110/06).

Abstract: This collection of information is necessary to account for and verify taxable removals of distilled spirits. The data is used to audit tax payments.

Affected Public: Private Sector: Businesses or other for-profits.

Estimated Total Burden Hours: 3,458.

OMB Number: 1513-0046.

Type of Review: Revision of a currently approved collection.

Title: Formula For Distilled Spirits Under The Federal Alcohol Administration Act.

Form: TTB 5110.38.

Abstract: TTB F 5110.38 is used to determine the classification of distilled spirits for labeling and for consumer protection. The form describes the person filing, type of product to be made, and restrictions to the labeling and manufacture. The form is used by TTB to ensure that a product is made and labeled properly and to audit distilled spirits operations.

Affected Public: Private Sector: Businesses or other for-profits.

Estimated Total Burden Hours: 4,000.

OMB Number: 1513-0049.

Type of Review: Revision of a currently approved collection.

Title: Distilled Spirits Plant Denaturation Records (TTB REC 5110/04) and Monthly Report of Processing (Denaturing) Operations.

Form: TTB 5110.43.

Abstract: The information collected is necessary to account for and verify the denaturation of distilled spirits. It is used to audit plant operations, monitor the industry for the efficient allocation of personnel resources, and compile statistics for government economic planning.

Affected Public: Private Sector: Businesses or other for-profits.

Estimated Total Burden Hours: 1,176.

OMB Number: 1513-0056.

Type of Review: Extension without change of a currently approved collection.

Title: Distilled Spirits Plants—Transaction and Supporting Records (TTB REC 5110/5).

Abstract: Transaction records provide the source data for accounts of distilled spirits in all DSP operations. They are used by DSP proprietors to account for spirits and by TTB to verify those accounts and consequent tax liabilities.

Affected Public: Private Sector: Businesses or other for-profits.

Estimated Total Burden Hours: 13,516.

OMB Number: 1513-0060.

Type of Review: Revision of a currently approved collection.

Title: Letterhead Applications and Notices Relating to Tax-Free Alcohol (TTB REC 5150/4).

Abstract: Tax-free alcohol is used for non-beverage purposes in scientific research and medicinal uses by educational organizations, hospitals, laboratories, etc. Use of tax-free alcohol is regulated to prevent illegal diversion to taxable beverage use. Permits/Applications control authorized uses and flow. TTB REC 5150/4 is designed to protect revenue and public safety.

Affected Public: Private Sector: Not-for-profit institutions.

Estimated Total Burden Hours: 1,667.

OMB Number: 1513-0066.

Type of Review: Extension without change of a currently approved collection.

Title: Retail Liquor Dealers Records of Receipts of Alcoholic Beverages and Commercial Invoices (TTB REC 5170/3).

Abstract: The primary objectives of this recordkeeping requirement are revenue protection, by establishment of accountability data available for audit purposes and consumer protection, by subject record traceability of alcoholic beverages to the retail liquor dealer level of distribution in the event of defective products. This collection of information is contained in 27 CFR 31.234.

Affected Public: Private Sector: Businesses or other for-profits; State, Local, and Tribal Governments.

Estimated Total Burden Hours: 1.

OMB Number: 1513-0067.

Type of Review: Extension without change of a currently approved collection.

Title: Wholesale Dealers Applications, Letterheads, and Notices Relating to Operations. (Variations in Format or Preparation of Records) (TTB REC 5170/6).

Abstract: This information collection is used by permittees who wish to request a variance. We use written applications, letterheads, and notices to rule on proposed variations from standard requirements, to ascertain that revenue is not placed in jeopardy, and to protect the revenue.

Affected Public: Private Sector: Businesses or other for-profits.

Estimated Total Burden Hours: 515.

OMB Number: 1513-0080.

Type of Review: Revision of a currently approved collection.

Title: Equipment and Structures (TTB REC 5110/12).

Abstract: Marks, signs, and calibrations are necessary on equipment and structures at a distilled spirits plant. These tools are used for the identification of major equipment and the accurate determination of contents.

Affected Public: Private Sector: Businesses or other for-profits.

Estimated Total Burden Hours: 1.

OMB Number: 1513-0082.

Type of Review: Extension without change of a currently approved collection.

Title: Alternate Methods or Procedures and Emergency Variations from Requirements for Exports of Liquors (TTB REC 5170/7).

Abstract: TTB allows exporters to request approval of alternate methods from those specified in regulations under 27 CFR Part 28. TTB uses the information to evaluate needs, jeopardy to the revenue, and compliance with the law. TTB also uses the information to identify areas where regulations need changing.

Affected Public: Private Sector: Businesses or other for-profits.

Estimated Total Burden Hours: 200.

OMB Number: 1513-0084.

Type of Review: Revision of a currently approved collection.

Title: Labeling of Sulfites in Alcoholic Beverages.

Abstract: In accordance with our consumer protection responsibilities, as mandated by law, TTB requires label disclosure statements on all alcoholic beverage products released from U.S. bottling premises or customs custody that contain 10 parts per million or more of sulfites. The disclosure reduces the consumer's exposure to sulfites, which has been shown to cause an allergic-type reaction in humans.

Affected Public: Private Sector: Businesses or other for-profits.

Estimated Total Burden Hours: 12,109.

OMB Number: 1513-0097.

Type of Review: Extension without change of a currently approved collection.

Title: Notices Relating to Payment of Firearms and Ammunition Excise Tax.

Abstract: Excise taxes are collected on the sale or use of firearms and ammunition by firearms or ammunition manufacturers, importers, or producers. Taxpayers who elect to pay excise taxes by electronic fund transfer must furnish a written notice upon election and discontinuance. Tax revenue will be protected.

Affected Public: Private Sector: Businesses or other for-profits.

Estimated Total Burden Hours: 1.

OMB Number: 1513-0100.

Type of Review: Extension without change of a currently approved collection.

Title: Applications, Notices, and Relative to Importation and Exportation of Distilled Spirits, Wine, and Beer, Including Puerto Rico and Virgin Islands.

Abstract: Beverage alcohol, industrial alcohol, beer, and wine are taxed when imported. The taxes on these commodities coming from the Virgin Islands and Puerto Rico are largely returned to these insular possessions. Exports are mainly tax-free. These documents ensure that proper taxes are collected and returned according to law.

Affected Public: Private Sector: Businesses or other for-profits.

Estimated Total Burden Hours: 180.

OMB Number: 1513-0104.

Type of Review: Extension without change of a currently approved collection.

Title: Information Collected in Support of Small Producer's Wine Tax Credit (TTB REC 5120/11).

Abstract: TTB collects this information to ensure proper tax credit. The information is used by taxpayers in preparing their returns and by TTB to verify tax computation. Recordkeepers are wine producers who want to transfer their credit to warehouse operators and the transferees who take such credit.

Affected Public: Private Sector: Businesses or other for-profits.

Estimated Total Burden Hours: 2,800.

Dawn D. Wolfgang,
Treasury PRA Clearance Officer.

[FR Doc. 2013-01679 Filed 1-25-13; 8:45 am]

BILLING CODE 4810-31-P